DEPARTMENT OF AGRICULTURE

Forest Service

Boundary Establishment for East Branch of the Tahquamenon National Wild and Scenic River, Hiawatha National Forest, Chippewa County, Michigan

AGENCY: Forest Service, Agriculture (USDA).

ACTION: Notice of availability.

SUMMARY: In accordance with Section 3(b) of the Wild and Scenic Rivers Act, the USDA Forest Service, Washington Office, is transmitting the final boundary of East Branch of the Tahquamenon National Wild and Scenic River to Congress. The East Branch of the Tahquamenon Wild and Scenic River boundary description is available for review at: https://www.fs.usda.gov/activity/hiawatha/recreation/wateractivities.

ADDRESSES: The Tahquamenon Wild and Scenic River boundary is available for review at the website listed under SUMMARY, to view the documents in person, arrangements should be made in advance by contacting the offices listed under FOR FURTHER INFORMATION CONTACT.

FOR FURTHER INFORMATION CONTACT: Information may be obtained by contacting Elizabeth Schleif, Regional Land Surveyor, by telephone at 404-297-3886 or via email at elizabeth.schleif@usda.gov. Alternatively, contact Jordan Ketola on the Hiawatha National Forest at 906-428-5825 or jordan.ketola@usda.gov. Individuals who use Telecommunication devices for the deaf (TDD) may call the Federal Information Relay Service (FIRS) at 800-877-8339 between 8 a.m. and 8 p.m., Eastern Standard Time, Monday through Friday.

SUPPLEMENTARY INFORMATION: The East Branch of the Tahquamenon Wild and Scenic River boundary is available for review on the website listed under summary. Or in person at the following offices, if arrangements are made in advance: USDA Forest Service, Yates Building, 14th and Independence Avenues SW, Washington, DC 20024, phone—800-832-1355; Eastern Region Regional Office, 626 E. Wisconsin Ave., Milwaukee, WI 53202, phone—414-297-3600; and Hiawatha National Forest Supervisor's Office, 820 Rains Drive, Gladstone, MI 49837, phone—906-428-5800. Please contact the appropriate office prior to arrival.

Persons with disabilities who require alternative means of communication for program information (e.g., Braille, large print, audiotape, American Sign Language, etc.) should contact the responsible Agency or USDA's TARGET Center at 202-720-2600 (voice and TTY) or contact USDA through the Federal Relay Service at 800-877-8339. Additionally, program information may be made available in languages other than English.

The Michigan Scenic Rivers Act of 1991 (Pub. L. 102-249) of March 3, 1992, designated East Branch of the Tahquamenon, Michigan as a National Wild and Scenic River, to be administered by the Secretary of Agriculture. As specified by law, the boundary will not be effective until ninety days after Congress receives the transmittal.

Dated: November 22, 2022.
Troy Heithecker,
Associate Deputy Chief, National Forest System.

[FR Doc. 2022-26583 Filed 12-6-22; 8:45 am]

BILLING CODE 3411-15-P